NUCLEAR REGULATORY COMMISSION

[Docket Nos. 50-003, 50-247, and 50-286; NRC-2022-0223]

Holtec Decommissioning International, LLC, Holtec Indian Point 2, LLC, and Holtec Indian Point 3, LLC; Indian Point Nuclear Energy Center; Exemption

AGENCY: Nuclear Regulatory Commission.

ACTION: Notice; issuance.

SUMMARY: The U.S. Nuclear Regulatory Commission (NRC) has issued exemptions in response to a request from Holtec Decommissioning International, LLC that would permit it, Holtec Indian Point 2, LLC, and Holtec Indian Point 3, LLC, to reduce certain emergency planning (EP) requirements. The exemptions eliminate the requirements to maintain an offsite radiological emergency preparedness plan and reduce the scope of onsite EP activities at the Indian Point Nuclear Generating Unit Nos. 1, 2, and 3, collectively referred to as the Indian Point Energy Center (IPEC), based on the reduced risks of accidents that could result in an offsite radiological release at a decommissioning nuclear power reactor.

DATES: The exemption was issued on November 1, 2023.

ADDRESSES: Please refer to Docket ID NRC-2022-0223 when contacting the NRC about the availability of information regarding this document. You may obtain publicly available information related to this document using any of the following methods:

• Federal Rulemaking Website: Go to https://www.regulations.gov and search for Docket ID NRC-2022-0223. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Karl Sturzebecher, Office of Nuclear Material Safety and Safeguards, U.S. Nuclear Regulatory Commission, Washington, DC 20555-0001, telephone: 301-415-8534; email: Karl.Sturzebecher@nrc.gov.

SUPPLEMENTARY INFORMATION: The text of the exemption is attached.

Dated: December 26, 2023.
For the Nuclear Regulatory Commission.
Marlayna V. Doell,
Project Manager, Reactor Decommissioning Branch, Division of Decommissioning, Uranium Recovery, and Waste Programs, Office of Nuclear Material Safety and Safeguards.

Attachment—Exemption

NUCLEAR REGULATORY COMMISSION

Docket Nos. 50-003, 50-247, and 50-286

Holtec Decommissioning International, LLC, Holtec Indian Point 2, LLC, and Holtec Indian Point 3, LLC; Indian Point Nuclear Generating Unit Nos. 1, 2, and 3; Exemption

I. Background

Indian Point Energy Center (IPEC) Units 1, 2, and 3, are decommissioning power reactors located on approximately 239 acres of land on the east bank of the Hudson River at the Village of Buchanan in upper Westchester County, New York. The licensee, Holtec Decommissioning International, LLC (HDI), is the holder of IPEC Facility Operating License Nos. DPR-5, DPR-26, and DFP-64. The licenses provide, among other things, that the facility is subject to all rules, regulations, and orders of the NRC now or hereafter in effect.

Indian Point Nuclear Generating Unit No. 1 (IP1) permanently ceased generation on October 31, 1974, and all fuel was removed from the IP1 reactor vessel by January 1976. In 1996, the NRC issued an order approving the safe-storage condition of IP1. In 2003, the NRC issued Amendment No. 52 to IP1's provisional operating license that changed the license's expiration date to be consistent with that of the Indian Point Nuclear Generating Unit No. 2 (IP2) license at that time. Pursuant to 10 CFR 50.82(a)(2), the IP1 license no longer authorizes operation of the reactor or emplacement or retention of fuel into the reactor vessel. HDI states that there is no IP1 spent fuel in wet storage at the IPEC site; IP1 spent fuel is stored onsite in dry cask storage in an independent spent fuel storage installation (ISFSI).

By letter dated February 8, 2017 (ADAMS Accession No. ML17044A004), Entergy Nuclear Indian Point 2, LLC, and Entergy Nuclear Indian Point 3, LLC (the IPEC licensees at that time, collectively, “Entergy”) certified to the NRC that it planned to permanently cease power operations at IP2 and Indian Point Nuclear Generating Unit No. 3 (IP3) by April 30, 2020, and April 30, 2021, respectively. By letters dated May 12, 2020, and May 11, 2021 (ML20113J902 and ML21131A157, respectively), Entergy certified to the NRC that power operations permanently ceased at IP2 and IP3 on April 30, 2020, and April 30, 2021, respectively. In the same letters, Entergy certified to the NRC that the fuel was permanently removed from the IP2 and IP3 reactor vessels and placed in the IP2 and IP3 spent fuel pools (SFPs) as of May 12, 2020, and May 11, 2021, respectively.

Based on the docketing of these certifications for permanent cessation of operations and permanent removal of fuel from the reactor vessel, as specified in title 10 of the Code of Federal Regulations (10 CFR) section 50.82(a)(2), the 10 CFR part 50 renewed facility operating license for IPEC (Nos. DPR-26 and DPR-64) no longer authorizes operation of the reactor or emplacement or retention of fuel in the reactor vessel. The facility is still authorized to possess, and store irradiated (i.e., spent) nuclear fuel. Spent fuel is currently stored onsite at the IP2 and IP3 facilities in the SFPs and in a dry cask ISFSI.

Many of the accident scenarios postulated in the updated safety analysis reports (USARs) for operating power reactors involve failures or malfunctions of systems that could affect the fuel in the reactor core and, in the most severe postulated accidents, would involve the release of large quantities of fission products. With the permanent cessation of power operations at IPEC and the permanent removal of the fuel from the reactor vessels, many accidents are no longer possible. The reactors, reactor coolant system (RCS), and supporting systems are no longer in operation and have no function related to the storage of the irradiated fuel. Therefore, the emergency planning (EP) provisions for postulated accidents involving failure or malfunction of the reactors, RCS, or supporting systems are no longer applicable.

The EP requirements of 10 CFR 50.47, “Emergency plans,” and appendix E to 10 CFR part 50, “Emergency Planning and Preparedness for Production and Utilization Facilities,” continue to apply to nuclear power reactors that have permanently ceased operation and have permanently removed all fuel from the reactor vessel. There are no explicit regulatory provisions distinguishing EP requirements for a power reactor that is permanently shut down and defueled from those for a reactor that is authorized to operate. To reduce or eliminate EP requirements that are no longer necessary due to the decommissioning status of the facility, HDI must obtain exemptions from those EP regulations. Only then can HDI modify the IPEC Emergency Plan to reflect the reduced risk associated with the permanently shutdown and defueled condition of IPEC.

II. Request/Action

By letter dated December 22, 2021 (ML21356B693), revised February 1, 2022 (ML22033A348), HDI requested exemptions from certain EP requirements of 10 CFR part 50 for IPEC. Specifically, HDI requested exemptions from certain planning standards in 10 CFR 50.47(b) regarding onsite and offsite radiological emergency plans for nuclear power reactors; from certain requirements in 10 CFR 50.47(c)(2) that require establishment of plume exposure and ingestion pathway EP zones for nuclear power reactors; and from certain requirements in 10 CFR part 50, appendix E, section IV, which establish the elements that comprise the content of emergency plans. In a letter dated February 1, 2022 (ML22032A017), HDI provided responses to the NRC staff's requests for additional information (RAI) concerning the proposed exemptions.

The information provided by HDI included justifications for each exemption requested. The exemptions requested by HDI would eliminate the requirements to maintain formal offsite radiological emergency plans, reviewed by the Federal Emergency Management Agency (FEMA) under the requirements of 44 CFR, “Emergency Management and Assistance,” part 350, “Review and Approval of State and Local Radiological Emergency Plans and Preparedness,” and reduce the scope of onsite EP activities at IPEC. HDI stated that application of all the standards and requirements in 10 CFR 50.47(b), 10 CFR 50.47(c), and 10 CFR part 50, appendix E are not needed for adequate emergency response capability, based on the substantially lower onsite and offsite radiological consequences of accidents still possible at the permanently shutdown and defueled facility, as compared to an operating facility. If offsite protective actions were needed for a highly unlikely beyond-design-basis accident that could challenge the safe storage of spent fuel at IPEC, provisions exist for offsite agencies to take protective actions using a comprehensive emergency management plan (CEMP) under the National Preparedness System to protect the health and safety of the public. A CEMP in this context, also referred to as an emergency operations plan (EOP), is addressed in FEMA's Comprehensive Preparedness Guide 101, “Developing and Maintaining Emergency Operations Plans.” Comprehensive Preparedness Guide 101 is the foundation for State, territorial, Tribal, and local EP in the United States. It promotes a common understanding of the fundamentals of risk-informed planning and decision-making and helps planners at all levels of government in their efforts to develop and maintain viable, all-hazards, all-threats emergency plans. An EOP is flexible enough for use in all emergencies. It describes how people and property will be protected; details who is responsible for carrying out specific actions; identifies the personnel, equipment, facilities, supplies and other resources available; and outlines how all actions will be coordinated. A CEMP is often referred to as a synonym for “all-hazards planning.

III. Discussion

In accordance with 10 CFR 50.12, “Specific exemptions,” the Commission may, upon application by any interested person or upon its own initiative, grant exemptions from the requirements of 10 CFR part 50 when: (1) the exemptions are authorized by law, will not present an undue risk to public health or safety, and are consistent with the common defense and security; and (2) any of the special circumstances listed in 10 CFR 50.12(a)(2) are present. These special circumstances include, among other things, that the application of the regulation in the particular circumstances would not serve the underlying purpose of the rule or is not necessary to achieve the underlying purpose of the rule.

As noted previously, the current EP regulations contained in 10 CFR 50.47(b) and appendix E to 10 CFR part 50 apply to both operating and shutdown power reactors. The NRC has consistently acknowledged that the risk of an offsite radiological release at a power reactor that has permanently ceased operations and permanently removed fuel from the reactor vessel is significantly lower, and the types of possible accidents are significantly fewer, than at an operating power reactor. However, current EP regulations do not recognize that once a power reactor permanently ceases operation, the risk of a large radiological release from credible emergency accident scenarios is significantly reduced. The reduced risk is largely the result of the low frequency of credible events that could challenge the SFP structure, and the reduced decay heat and reduced short-lived radionuclide inventory due to decay. The NRC's NUREG/CR- 6451, “A Safety and Regulatory Assessment of Generic BWR and PWR Permanently Shutdown Nuclear Power Plants,” dated August 31, 1997 (ML082260098) and NUREG-1738, “Technical Study of Spent Fuel Pool Accident Risk at Decommissioning Nuclear Power Plants,” dated February 28, 2001 (ML010430066), confirmed that for permanently shutdown and defueled power reactors bounded by the assumptions and conditions in the reports, the risk of offsite radiological release is significantly less than that for an operating power reactor.

In the past, EP exemptions similar to those requested by HDI, have been granted to licensees of permanently shutdown and defueled power reactors. However, the exemptions did not relieve the licensees of all EP requirements. Rather, the exemptions allowed the licensees to modify their emergency plans commensurate with the credible site-specific risks that were consistent with a permanently shutdown and defueled status. Specifically, the NRC's approval of these prior exemptions from certain EP requirements was based on the licensee's demonstration that: (1) the radiological consequences of design-basis accidents would not exceed the limits of the U.S. Environmental Protection Agency's (EPA) Protective Action Guidelines (PAGs) at the exclusion area boundary, and (2) in the unlikely event of a beyond- design-basis accident resulting in a loss of all modes of heat transfer from the fuel stored in the SFP, there is sufficient time to initiate appropriate mitigating actions, and if needed, for offsite authorities to implement offsite protective actions using a CEMP approach to protect the health and safety of the public. Based on prior exemption requests, the NRC has generally approved such exemptions when the site-specific analysis demonstrates that there is sufficient time following a loss of SFP coolant inventory until the onset of fuel damage to implement onsite mitigation of the loss of SFP coolant inventory and if necessary, to implement offsite protective actions. In prior exemptions, sufficient time was demonstrated if the time exceeded 10 hours from the loss of coolant until the fuel temperature would be expected to reach 900 degrees Celsius (°C), assuming no air cooling.

With respect to design-basis-accidents at IPEC, the licensee provided analysis demonstrating that 15 months following permanent cessation of power operations, the radiological consequences of the only remaining design-basis accident with potential for offsite radiological release (a fuel handling accident in the Reactor Building, where the SFP is located) will not exceed the limits of the EPA PAGs at the exclusion area boundary. With respect to beyond-design-basis accidents at IPEC, HDI analyzed a beyond-design-basis accident involving a complete loss of SFP water inventory, where adequate fuel handling building air exchange with the environment and air cooling of the stored fuel was available. HDI's analysis demonstrated that, as of 10 hours, air cooling of the spent fuel assemblies was sufficient to keep the fuel within safe temperature range, indefinitely, without fuel cladding damage or offsite radiological release.

The NRC staff reviewed the licensee's justification for the requested exemptions against the criteria in 10 CFR 50.12(a) and determined, as described below, that the criteria in 10 CFR 50.12(a) will be met, and that the exemptions should be granted. An assessment of the HDI EP exemptions is described in SECY-22-0102 dated November 18, 2022 (ML22231A160). The Commission approved the NRC staff's recommendation to grant the exemptions in the staff requirements memorandum to SECY-22-0102, dated October 24, 2023 (ML23297A027). Descriptions of the specific exemptions requested by HDI and the NRC staff's basis for granting each exemption are provided in SECY-22-0102. The staff's detailed review and technical basis for the approval of the specific EP exemptions requested by HDI are provided in the NRC staff's safety evaluation dated November 1, 2023 (ML23067A082)

A. The Exemption Is Authorized by Law

The licensee has proposed exemptions from certain EP requirements in 10 CFR 50.47(b), 10 CFR 50.47(c)(2), and 10 CFR part 50, appendix E, section IV, which would allow HDI to revise the IPEC Emergency Plan to reflect the permanently shutdown and defueled condition of the facility. As stated above, in accordance with 10 CFR 50.12, the Commission may, upon application by any interested person or upon its own initiative, grant exemptions from the requirements of 10 CFR part 50. The NRC staff has determined that granting of the licensee's proposed exemptions will not result in a violation of the Atomic Energy Act of 1954, as amended, or the NRC's regulations. Therefore, the exemptions are authorized by law.

B. The Exemption Presents No Undue Risk to the Public Health and Safety

As stated previously, HDI provided analyses that show the radiological consequences of design-basis accidents will not exceed the limits of the EPA PAGs at the exclusion area boundary. Therefore, formal offsite radiological emergency plans required under 10 CFR part 50 will no longer be needed for protection of the public beyond the exclusion area boundary, based on the radiological consequences of design-basis accidents still possible at IPEC.

Although highly unlikely, there is one postulated beyond-design-basis accident that might result in significant offsite radiological releases. However, NUREG-1738 confirms that the risk of beyond-design-basis accidents is greatly reduced at permanently shutdown and defueled reactors. The NRC staff's analyses in NUREG-1738 concludes that the event sequences important to risk at permanently shutdown and defueled power reactors are limited to large earthquakes and cask drop events. For EP assessments, this is an important difference relative to the operating power reactors, where typically a large number of different sequences make significant contributions to risk. Per NUREG-1738, relaxation of offsite EP requirements, under 10 CFR part 50, a few months after shutdown resulted in only a small change in risk. The report further concludes that the change in risk due to relaxation of offsite EP requirements is small because the overall risk is low, and because even under current EP requirements for operating power reactors, EP was judged to have marginal impact on evacuation effectiveness in the severe earthquake event that dominates SFP risk. All other sequences including cask drops (for which offsite radiological emergency plans are expected to be more effective) are too low in likelihood to have a significant impact on risk.

Therefore, granting exemptions to eliminate the requirements of 10 CFR part 50 to maintain offsite radiological emergency plans and to reduce the scope of onsite EP activities will not present an undue risk to the public health and safety.

C. The Exemption Is Consistent With the Common Defense and Security

The requested exemptions by HDI only involve EP requirements under 10 CFR part 50 and will allow HDI to revise the IPEC Emergency Plan to reflect the permanently shutdown and defueled condition of the facility. Physical security measures at IPEC are not affected by the requested EP exemptions. The discontinuation of formal offsite radiological emergency plans and the reduction in scope of the onsite EP activities at IPEC will not adversely affect HDI's ability to physically secure the site or protect special nuclear material. Therefore, the proposed exemptions are consistent with the common defense and security.

D. Special Circumstances

Special circumstances, in accordance with 10 CFR 50.12(a)(2)(ii), are present whenever application of the regulation in the particular circumstances is not necessary to achieve the underlying purpose of the rule. The underlying purpose of 10 CFR 50.47(b), 10 CFR 50.47(c)(2), and 10 CFR part 50, appendix E, section IV, is to provide reasonable assurance that adequate protective measures can and will be taken in the event of a radiological emergency, to establish plume exposure and ingestion pathway EP zones for nuclear power plants, and to ensure that licensees maintain effective offsite and onsite radiological emergency plans. The standards and requirements in these regulations were developed by considering the risks associated with operation of a nuclear power reactor at its licensed full-power level. These risks include the potential for a reactor accident with offsite radiological dose consequences.

As discussed previously in Section Ill of this document, because IPEC Units 1, 2, and 3 are permanently shutdown and defueled, there will no longer be a risk of a significant offsite radiological release from a design-basis accident exceeding early phase PAGs at the exclusion area boundary, and the risk of a significant offsite radiological release from a beyond-design-basis accident is greatly reduced when compared to the risk at an operating power reactor. In a letter dated December 22, 2021 (ML21356B693), revised February 1, 2022 (ML22033A348), the licensee provided analyses to demonstrate that the radiological consequences of design-basis accidents at IPEC will not exceed the limits of the EPA PAGs at the exclusion area boundary. The NRC staff has confirmed the reduced risks at IPEC by comparing the generic risk assumptions in the analyses in NUREG-1738 to site-specific conditions at IPEC; and has determined that the risk values in NUREG-1738 bound the risks presented by IPEC.

In addition, the significant decay of short-lived radionuclides that has occurred since shutdown of IPEC provides assurance in other ways. As indicated by the results of research conducted for NUREG-1738 and more recently, for NUREG-2161, “Consequence Study of a Beyond-Design-Basis Earthquake Affecting the Spent Fuel Pool for a U.S. Mark I Boiling Water Reactor” (ML14255A365), while other consequences can be extensive, accidents from SFPs with significant decay time have little potential to cause offsite early fatalities, even if the formal offsite radiological EP requirements were relaxed. HDI's analysis of a beyond-design-basis accident involving a complete loss of SFP water inventory, where adequate fuel handling building air exchange with the environment and air cooling of the stored fuel is available, shows that as of 10 hours, air cooling of the spent fuel assemblies was sufficient to keep the fuel within safe temperature range, indefinitely, without fuel cladding damage or offsite radiological release.

The only analyzed beyond-design-basis accident scenario that progresses to a condition where a significant offsite release might occur, involves the highly unlikely event where the SFP drains in such a way that all modes of cooling or heat transfer are assumed to be unavailable, which is postulated to result in an adiabatic heat up of the spent fuel. HDI's analysis of this beyond-design-basis accident shows that 15 months after shutdown, a minimum of 10 hours would be available between the time the fuel is initially uncovered (at which time adiabatic heat up is conservatively assumed to begin), until the fuel cladding reaches a temperature of 1652 degrees Fahrenheit (°F) (900°C), which is the temperature associated with rapid cladding oxidation and the potential for a significant radiological release. This analysis conservatively does not include the period of time from the initiating event causing a loss of SFP water inventory until all cooling means are lost.

The NRC staff has verified HDI's analyses and its calculations. The analyses provide reasonable assurance that in granting the requested exemptions to HDI, there is no design- basis accident that will result in an offsite radiological release exceeding the EPA PAGs at the exclusion area boundary. In the highly unlikely event of a beyond-design-basis accident affecting the SFP that results in a complete loss of heat removal via all modes of heat transfer, because all Units at IPEC have been shutdown for well over 15 months, there will be a minimum of 10 hours available before an offsite release might occur and, therefore, at least 10 hours to initiate appropriate mitigating actions to restore a means of heat removal to the spent fuel. If a radiological release were projected to occur under this unlikely scenario, a minimum of 10 hours is considered sufficient time for offsite authorities to implement protective actions using a CEMP approach to protect the health and safety of the public.

Exemptions from the offsite EP requirements in 10 CFR part 50 have previously been approved by the NRC when the site-specific analyses show that at least 10 hours are available following a loss of SFP coolant inventory accident with no air cooling (or other methods of removing decay heat) until cladding of the hottest fuel assembly reaches the zirconium rapid oxidation temperature. The NRC staff concluded in its previously granted exemptions, as it does with the HDI-requested EP exemptions, that if a minimum of 10 hours are available to initiate mitigative actions consistent with plant conditions, or if needed, for offsite authorities to implement protective actions using a CEMP approach, then formal offsite radiological emergency plans, required under 10 CFR part 50, are not necessary at permanently shut down and defueled power reactors.

Additionally, in HDI's letters to the NRC dated December 22, 2021, and February 2, 2022, HDI described the SFP makeup strategies that could be used in the event of a catastrophic loss of SFP inventory. The multiple strategies for providing makeup water to the SFP include: using existing plant systems for inventory makeup; an internal strategy between IP2 and IP3 that relies on installed Primary Water Storage Tank, fire water inside the SFP buildings, and fire water using a temporary diesel pump from outside of the SFP buildings; or an external strategy that uses portable pumps to initiate makeup flow into the SFPs through a standpipe and standard fire hoses routed to the SFPs or to a spray nozzle. These strategies will continue to be required as License Condition 2(N), “Mitigation Strategy License Condition” and 2(AC), “Mitigation Strategy License Condition” for Units 2 and 3 respectively. Considering the very low probability of beyond-design-basis accidents affecting the SFP, these diverse strategies provide multiple methods to obtain additional makeup or spray water to the SFP before the onset of any postulated offsite radiological release. Because of the length of time, it would take for the fuel to heat up, there are 10 hours available to respond to any draindown event that might cause such an occurrence by restoring cooling or makeup or providing spray to the IP2 or IP3 SFPs.

For all the reasons stated above, the NRC staff finds that HDI's requested exemptions meet the underlying purpose of all of the standards in 10 CFR 50.47(b), as well as the requirements in 10 CFR 50.47(c)(2), and 10 CFR part 50, appendix E, and satisfies the special circumstances in 10 CFR 50.12(a)(2)(ii) in view of the greatly reduced risk of offsite radiological consequences associated with the permanently shutdown and defueled state of the IPEC facility. The staff further concludes that the exemptions granted by this action will maintain an acceptable level of emergency preparedness at IPEC and provide reasonable assurance that adequate offsite protective measures, if needed, can and will be taken by State and local government agencies using a CEMP approach, in the highly unlikely event of a radiological emergency at the IPEC facility. Since the underlying purposes of the rules, as exempted, would continue to be achieved, even with the elimination of the requirements under 10 CFR part 50 to maintain formal offsite radiological emergency plans and the reduction in the scope of the onsite EP activities at IPEC, the special circumstances required by 10 CFR 50.12(a)(2)(ii) exist.

E. Environmental Considerations

In accordance with 10 CFR 51.31(a), the Commission has determined that the granting of these exemptions will not have a significant effect on the quality of the human environment, as discussed in the NRC staff's Environmental Assessment and Finding of No Significant Impact published on October 31, 2023 (88 FR 74536).

IV. Conclusions

Accordingly, the Commission has determined, pursuant to 10 CFR 50.12(a), that HDI's request for exemptions from certain EP requirements in 10 CFR 50.47(b), 10 CFR 50.47(c)(2), and 10 CFR part 50, appendix E, section IV, and as summarized in Enclosure 2 to SECY-22-0102, are authorized by law, will not present an undue risk to the public health and safety, and are consistent with the common defense and security. Also, special circumstances are present. Therefore, the Commission hereby grants HDI exemptions from certain EP requirements of 10 CFR 50.47(b), 10 CFR 50.47(c)(2), and 10 CFR part 50, appendix E, section IV, as discussed and evaluated in detail in the staff's safety evaluation dated November 1, 2023 (ML23067A082). The exemptions are effective upon issuance.

Dated: November 1, 2023.

For the Nuclear Regulatory Commission.

Jane Marshall, Director,

Division of Decommissioning, Uranium Recovery, and Waste Programs, Office of Nuclear Material Safety, and Safeguards.

[FR Doc. 2023-28778 Filed 12-28-23; 8:45 am]

BILLING CODE 7590-01-P